INTERNATIONAL TRADE COMMISSION

[Investigation No. 337-TA-1341]

Certain Video Processing Devices and Products Containing the Same; Notice of a Commission Determination To Review in Part a Final Initial Determination, and on Review, To Find No Violation of Section 337; Termination of the Investigation

AGENCY: U.S. International Trade Commission.

ACTION: Notice.

SUMMARY: Notice is hereby given that the U.S. International Trade Commission (“Commission”) has determined to review the Administrative Law Judge's (“ALJ”) final initial determination (“ID”), issued on February 5, 2024, and on review, to find no violation of section 337 in the above-referenced investigation. This investigation is terminated.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on November 29, 2022, based on a complaint filed on behalf of VideoLabs, Inc. of Palo Alto, California (“VideoLabs”). 87 FR 73329 (Nov. 29, 2022). The complaint, as supplemented, alleges violations of section 337 of the Tariff Act of 1930, as amended, 19 U.S.C. 1337, in the importation into the United States, the sale for importation, or the sale within the United States after importation of certain video processing devices and products containing the same by reason of infringement of claims of U.S. Patent Nos. 7,769,238 (“the '238 patent”), 8,139,878 (“the '878 patent”), and 8,208,542 (“the '542 patent”). Id. The complaint further alleges that a domestic industry exists. Id. The Commission's notice of investigation named as the sole respondent HP Inc. of Palo Alto, California (“HP”). Id. The Office of Unfair Import Investigations is not participating in the investigation. Id.

On July 27, 2023, and August 25, 2023, the ALJ issued Order No. 20 and Order No. 23, respectively, granting VideoLabs' motions to terminate the investigation with regards to the '238 patent and the '878 patent. Order No. 20 (July 11, 2023), unreviewed by Comm'n Notice (July 27, 2023); Order No. 23 (Aug. 7, 2023), unreviewed by Comm'n Notice (Aug. 25, 2023). Accordingly, the '542 patent is the sole remaining patent at issue.

The ALJ held a Markman hearing on June 7, 2023. On September 22, 2023, the ALJ issued Order No. 27, in which the ALJ construed certain claim terms while reserving construction of other terms until after the evidentiary hearing due to underlying fact issues. See Order No. 27 (Sept. 22, 2023).

The ALJ held an evidentiary hearing from October 23-26, 2023. The parties filed their post-hearing opening briefs and replies on November 13, 2023, and November 29, 2023, respectively.

On February 5, 2024, the ALJ issued the final ID in this investigation, which found no violation of section 337 as to any of the asserted claims of the '542 patent.

On February 20, 2024, VideoLabs petitioned for review of the final ID. On February 28, 2024, HP filed a response opposing VideoLabs' petition.

On March 25, 2024, the Commission determined to extend the date by which it must determine whether to review the final ID to April 25, 2024.

Having examined the record of this investigation, including the ID, the petition for review, and the response thereto, the Commission has determined not to review and thus adopts, the ID's claim construction findings and the ID's finding that the asserted claims are invalid as indefinite. Those findings are sufficient to support the ID's ultimate finding of no violation of section 337, which the Commission also adopts. Given the finding that the asserted claims are indefinite, the Commission cannot conduct a complete analysis of the other issues raised in this investigation, e.g., infringement, obviousness, and domestic industry. Accordingly, the Commission has determined to review the remaining findings in the ID and on review take no position on those findings. This investigation is terminated.

The Commission vote for this determination took place on April 25, 2024.

The authority for the Commission's determination is contained in section 337 of the Tariff Act of 1930, as amended (19 U.S.C. 1337), and in part 210 of the Commission's Rules of Practice and Procedure (19 CFR part 210).

By order of the Commission.
Issued: April 25, 2024.
Lisa Barton,
Secretary to the Commission.

[FR Doc. 2024-09362 Filed 4-30-24; 8:45 am]

BILLING CODE 7020-02-P